DEPARTMENT OF LABOR

Employment and Training Administration

[TA-W-40,131]

Levcor International, Inc., New York, NY; Notice of Negative Determination Regarding Application for Reconsideration

By application of January 29, 2001, the company, requested administrative reconsideration of the Department's negative determination regarding eligibility for workers and former workers of the subject firm to apply for Trade Adjustment Assistance (TAA). The denial notice was signed on January 2, 2002 and published in the Federal Register on January 11, 2002 (67 FR 1511).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Levcor International, Inc. engaged in the production of fabric for apparel, was denied because the criterion (2) of the group eligible requirement was not met. Sales at the subject firm did not decline during the relevant period.

The company alleges that sales at the subject firm decreased during the relevant period. The company further indicated that the most recent sales figures they provided include figures from a company they acquire during the most recent period. The company further indicated that by extracting out those sales figures, subject plant sales would show a decline during the relevant period.

Examination of sales data supplied during the initial investigation and clarification from the company further supports the original decision that sales increased during the relevant period.

Based on further information provided during reconsideration it became evident that the workers were not engaged in production of an article, fabric. Workers instead, only performed sales and administrative functions during the relevant period.

The subject workers do not produce an article within the meaning of section 222(3) of the Act.

Conclusion

After review of the application and investigative findings, I conclude that there has been no error or misinterpretation of the law or of the facts which would justify reconsideration of the Department of Labor's prior decisions. Accordingly, the application is denied.

Signed at Washington, DC, this 22nd day of March, 2002.
Edward A. Tomchick,
Director, Division of Trade Adjustment Assistance.

[FR Doc. 02-9757 Filed 4-19-02; 8:45 am]

BILLING CODE 4510-30-M